DEPARTMENT OF STATE

OFFICE OF THE UNITED STATES TRADE REPRESENTATIVE

[Public Notice 10418]

Notice of Termination of United States-Ecuador Bilateral Investment Treaty

ACTION: Notice of termination.

SUMMARY: The Government of Ecuador has delivered to the United States a notice of termination for the bilateral investment treaty between the two countries. As a result, the treaty terminates as of May 18, 2018, except that it will continue to apply for another 10 years to investments made or acquired prior to the date of termination (May 18, 2018) and to which the treaty otherwise applies.

FOR FURTHER INFORMATION CONTACT: Pamela Phan, Senior Treaty Negotiator, Office of Investment Affairs at the Department of State, at PhanPN@state.gov or (202) 736-4246, or Lauren Mandell, Deputy Assistant U.S. Trade Representative for Investment at the Office of the U.S. Trade Representative, at Lauren_A_Mandell@ustr.eop.gov or (202) 395-9444.

SUPPLEMENTARY INFORMATION: Ecuador delivered a notice dated May 18, 2017, that it was terminating the “Treaty between the United States of America and the Republic of Ecuador Concerning the Encouragement and Reciprocal Protection of Investment” (“the Treaty”). Pursuant to the terms of the Treaty, termination takes effect one year from the date of that notice.

The Treaty was signed at Washington on August 27, 1993, and entered into force on May 11, 1997. Under the terms of the Treaty, either Party may terminate the Treaty at the end of the initial ten-year period, or any time thereafter, by giving one year's written notice to the other Party. The provisions of the Treaty will continue to apply for an additional 10 years to all investments made or acquired prior to the date of termination and to which the Treaty otherwise applies. The Treaty provides protections to cross-border investment between the two countries and the option to resolve investment disputes through international arbitration. The Department of State and the Office of the U.S. Trade Representative, which co-lead the U.S. bilateral investment treaty program, are providing this notice so that existing or potential U.S. investors in Ecuador can factor the termination of the Treaty into their business planning, as appropriate.

Pamela Phan,
Senior Treaty Negotiator and Advisor, Office of Investment Affairs, Department of State.
Lauren Mandell,
Deputy Assistant U.S. Trade Representative, Office of the U.S. Trade Representative.

[FR Doc. 2018-10659 Filed 5-17-18; 8:45 am]

BILLING CODE 4710-AE-P